DEPARTMENT OF THE INTERIOR

National Park Service

[NPS-WASO-NAGPRA-NPS0039891; PPWOCRADN0-PCU00RP14.R50000]

Notice of Intended Repatriation: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) intends to repatriate certain cultural items that meet the definition of unassociated funerary objects, sacred objects, and/or objects of cultural patrimony and that have a cultural affiliation with the Indian Tribes or Native Hawaiian organizations in this notice.

DATES: Repatriation of the cultural items in this notice may occur on or after May 12, 2025.

ADDRESSES: Deanna Byrd, Peabody Museum of Archaeology and Ethnology, Harvard University, 11 Divinity Avenue, Cambridge, MA 02138, telephone (617) 384-0672, email deannabyrd@fas.harvard.edu.

SUPPLEMENTARY INFORMATION: This notice is published as part of the National Park Service's administrative responsibilities under NAGPRA. The determinations in this notice are the sole responsibility of the PMAE, and additional information on the determinations in this notice, including the results of consultation, can be found in the summary or related records. The National Park Service is not responsible for the determinations in this notice.

Abstract of Information Available

A total of 119 cultural items have been requested for repatriation. One cultural item is both an unassociated funerary object and a sacred object.

The one unassociated funerary object is one lot of hair ornaments collected by William Radcliff Morris between 1878 and 1893 from an unspecified location within the United States. Morris's widow sold the cultural items to William H. Claflin, Jr., in 1930, and Claflin bequeathed them to the PMAE in 1985.

The one cultural item determined to be an unassociated funerary object and a sacred object is one lot of shirts collected by an unknown person at an unknown date from an unspecified location within the United States. William H. Claflin, Jr., acquired the cultural items at an unknown date and bequeathed them to the PMAE in 1985.

The 56 sacred objects are described as follows:

The one sacred object is one lot of pipes collected by Anson H. Currier from an unknown location in MT between 1882 and 1901 and sold by Currier to the PMAE in 1901.

The five sacred objects are one lot of women's bags, one lot of neck ornaments, one lot of hair ornaments, one lot of carved horn spoons, and one lot of beaded war shirts donated by Lewis Hobart Farlow to the PMAE between 1903 and 1913. Farlow acquired the cultural items from unknown collectors, William Radcliff Morris, Grace A. Nicholson, and Sam B. Dickens at various times between 1891 and 1913.

The one sacred object is one lot of hair ornaments collected by an unknown person at an unknown date from Miles City, Custer County, MT, and sold to the PMAE by an unknown person in 1903.

The one sacred object is one lot of horn spoons collected by an unknown person at an unknown date from an unknown location within the United States and donated to the PMAE by Mrs. Charles Fairchild in 1914.

The one sacred object is one lot of rattles collected by an unknown person at an unknown date from an unknown location in North America and sold to the PMAE by an unknown person in 1928.

The one sacred object is one lot of clubs collected by Beatrice Barrington at an unknown date from an unknown location in North America and donated by Mrs. A.C. Sanborn to the PMAE in 1929.

The two sacred objects are one lot of horn spoons and one lot of beaded umbilical cord containers collected by Charles Alexander Eastman at an unknown date from the “Central Plains” or “Dakota” and sold to the PMAE by Dora W. Eastman in 1933.

The one sacred object is one lot of saddle blankets collected by Amelia Elizabeth White at an unknown date from an unknown location in North America and donated to PMAE by White in 1937.

The two sacred objects are one chief's shirt trimmed with locks of human hair and one lot of coats or dresses trimmed with dentalium and bells from the “Plains” collected by Theodore Jewett Eastman and Col. S.J. Lockwood between 1888 and 1916 and donated to the PMAE by Mrs. Henry H. Richardson in 1938.

The two sacred objects are one lot of painted cases and one lot of pipe cleaners or tampers collected by Henry M. Wheelwright in 1901 from unknown locations in North America and donated to the PMAE by Mrs. Ruth E. Wheelwright through Henry Wheelwright's wife in 1939.

The six sacred objects are one lot of bags, one lot of club sticks, one lot of beaded female amulets, one lot of rattles, one lot of pipe bowls, and one lot of ladles collected by Ernest T. Jackson between 1872 and 1902 and donated to the PMAE by Jackson and Patrick T. Jackson in 1940 and 1946.

The one sacred object is one lot of saddle bags collected by David I. Bushnell, Jr., between 1899 and 1939 from the “Plains” and donated to the PMAE by Bushnell's estate in 1941.

The one sacred object is one lot of medicine bags collected by Daniel Dorchester between 1889 and 1894 from an unknown location in North America and donated to the PMAE by Cleora Hatch in 1944.

The three sacred objects are one lot of horn spoons, one lot of women's bags, and one lot of pipe bowls collected by William E. Jones before 1909 from the “Plains” and donated to the PMAE by Caroline W. Andrus in 1947. Jones acquired the horn spoons from H.W. Ludlow about 1880.

The one sacred object is one lot of pipe bags collected by H.E. Burnham at an unknown date from the “Plains” and donated to the PMAE by Mrs. Arthur O. Robers in 1949.

The one sacred object is one lot of knives in beaded sheaths collected by Rosamund Lamb in the early 1900s from the “Plains” and donated by Lamb to the PMAE in 1955.

The three sacred objects are one lot of pouches, one lot of beaded whips, and one lot of drumsticks collected by Amelia Elizabeth White at an unknown date from the “Plains” and donated to the PMAE by William White Howells in 1961.

The two sacred objects are one lot of medicine drums and rattles and one lot of pipes collected by A.B. Campbell and E. Woodruff of the United States Army at unknown dates from unknown locations in North America and donated to the PMAE by the United States Surgeon General's Office in 1874.

The one sacred object is one bison robe collected by General H.A. Morrow at an unknown date from the upper Missouri River in the United States or Canada and donated to the PMAE by Morrow in 1874.

The two sacred objects are one lot of rattles and one lot of bows and arrows collected from either the United States or Canada by an unknown person and James P. Kimball at unknown dates and donated to the PMAE by the Army Medical Museum in 1876.

The two sacred objects are one lot of bags and one lot of stone-headed clubs collected by an unknown person in the 1920s from the “Plains” and donated to the PMAE by Douglas S. Dillman in 1970.

The one sacred object is one lot of beaded awl cases collected by William H. Best between 1885 and 1895 from the “Plains,” likely North Dakota, and donated to the PMAE in 1971 by Mrs. William M. Milton and Mrs. W.S. MacDonald.

The 12 sacred objects are one lot of horn spoons, one lot of dolls, one lot of pouches and bags (including strike-a-light pouches, saddle bags, parfleche, and medicine bags), one lot of umbilical amulets, one lot of clothing and ornaments (including bonnets, shirts, shirt bands, leggings, hairpipe breastplates, and hair ornaments), one lot of whipsticks, one lot of knife sheaths, one lot of decorative silverware, one lot of eagle wing fans, one lot of archery items (quivers, bows, bow cases, and arrows), one lot of blanket strips and saddle blankets, and one lot of needlecases collected by William Radcliff Morris between 1878 and 1893 from unspecified locations within the United States. Morris's widow sold the cultural items to William H. Claflin, Jr., in 1930, and Claflin bequeathed the cultural items to the PMAE in 1985. Morris identified one horn spoon as previously owned by a woman identified as “Comes-Back-at-Night,” wife of Broken Arm. Morris identified two dolls, one quilled pouch, one parfleche bag, and one beaded lizard-shaped umbilical amulet as being from Chief Spotted Tail and his family. Morris identified one eagle wing fan as previously owned by a man variously identified as “Broken Arm” and “Broken Arrow.” Morris identified one quilled blanket strip as previously owned by a man identified as “Shot-in-the-Eye.”

The one sacred object is one lot of beaded belts collected by William R. Wright between 1950 and 1993 from an unknown location in the United States and donated to the PMAE by Wright in 1995.

The one sacred object is one lot of beaded ornaments collected by an unknown person at an unknown date from an unknown location in North America and donated to the PMAE by an unknown person at an unknown date.

The one sacred object is one lot of hairpipe breastplates and breastplate elements collected by William Henry Bisbee at an unknown date from the “Central Plains;” Bisbee gave the cultural items to Latimer Willis Ballou at an unknown date, who gave them to Putnam Ballou McDowell in the late 1950s, who finally donated them to the PMAE in 2004.

The 49 objects of cultural patrimony are described as follows:

The one object of cultural patrimony is one lot of women's garments collected by an unknown person at an unknown date from an unknown location in North America and donated to the PMAE by Mary Farlow Linder in 1902.

The four objects of cultural patrimony are one lot of breast and hairpipe plates, one lot of beaded cradles and cradle hoods, one lot of bags (including pipe and tobacco bags), and one lot of necklaces collected by unknown people, Reverend J.W. Millar, Mr. Raymond, and Grace A. Nicholson at between 1897 and 1908 from mostly unspecified locations within North America and donated to the PMAE by Lewis Hobart Farlow between 1902 and 1909.

The one object of cultural patrimony is one lot of moccasins collected by an unknown person at an unknown date from an unknown location in North America and donated to the PMAE by Sarah Hammond Palfrey in 1914.

The one object of cultural patrimony is one lot of pipes and pipe bowls collected by an unknown person at an unknown date from an unknown location in North America and donated to the PMAE by Emma Abbot Atwood in 1916.

The one object of cultural patrimony is one lot of leggings collected by an unknown person at an unknown date from an unknown location in North America and donated to the PMAE by Susan Minns in 1924.

The one object of cultural patrimony is one lot of moccasins collected by an unknown person at an unknown date from the “Plains” and donated to the PMAE by Lombard C. Jones in 1926.

The one object of cultural patrimony is one lot of miniature beaded baby carriers collected by Charles Alexander Eastman at an unknown date from the “Central Plains” or “Dakota” and sold to the PMAE by Dora W. Eastman in 1933.

The one object of cultural patrimony is one lot of beaded cradles collected by Amelia Elizabeth White from the “Plains” at an unknown date and donated to the PMAE by White in 1937.

The two objects of cultural patrimony are one lot of tobacco pouches and one lot of miniature moccasins collected by the brothers of Mrs. Joseph M. Robinson between 1883 and 1925 from unknown locations in North America and donated to the PMAE by Robinson in 1939.

The seven objects of cultural patrimony are one lot of pouches, one lot of quilled bridle cheek straps, one lot of cradles, one lot of headdresses, one lot of dolls in cradles, one lot of moccasins, and one lot of clubs or dance sticks collected by Ernest T. Jackson from locations in North America between 1872 and 1902 and donated to the PMAE by Jackson and Patrick T. Jackson in 1940 and 1946.

The one object of cultural patrimony is one lot of moccasins collected by David I. Bushnell, Jr., between 1899 and 1939 from the “Plains” and donated to the PMAE by Bushnell's estate in 1941.

The one object of cultural patrimony is one lot of painted parfleche collected by an unknown person at an unknown date from an unknown location in the United States and donated to the PMAE by an unknown person in 1942.

The one object of cultural patrimony is one lot of dolls collected by Alexander S. Porter in 1912 from the “Plains” and donated to the PMAE by Frances R. Porter and Mrs. William Stanley Parker in 1942.

The one object of cultural patrimony is one lot of beaded knife cases collected by Daniel Dorchester between 1889 and 1894 from an unknown location in North America and donated to the PMAE by Cleora Hatch in 1944.

The one object of cultural patrimony is one lot of bags and pouches collected by William E. Jones before 1909 from the “Central Plains” and donated to the PMAE by Caroline W. Andrus in 1947.

The three objects of cultural patrimony are one lot of gloves, one lot of lariats, and one lot of beaded cradles collected by H.E. Burnham at an unknown date from the “Plains” and donated to the PMAE by Mrs. Arthur O. Roberts in 1949.

The one object of cultural patrimony is one lot of women's dresses with dentalium shells collected by an unknown person at an unknown date from the “Central Plains” and donated to the Denver Art Museum at an unknown date; the PMAE acquired the cultural items through an exchange with the Denver Art Museum, via Frederic H. Douglas, in 1952.

The one object of cultural patrimony is one lot of saddles collected by Robert W. Foster from the “Plains” prior to 1952 or 1953 and donated to the PMAE by Foster in 1955.

The one object of cultural patrimony is one lot of bags collected by an unknown person prior to summer 1957 from the “Plains” and donated to the PMAE by an unknown person in 1958.

The one object of cultural patrimony is one lot of women's dresses with dentalium shells collected by Amelia Elizabeth White at an unknown date from the “Plains” and donated to the PMAE by William White Howells in 1961.

The one object of cultural patrimony is one lot of drums collected by General H.A. Morrow at an unknown date from the United States or Canada and donated to the PMAE by Morrow in 1874.

The one object of cultural patrimony is one lot of moccasins collected by Copley Amory in 1887 from an unknown location in the United States and donated to the PMAE by Amory in 1888.

The one object of cultural patrimony is one lot of dentalium necklaces collected by an unknown person at an unknown date from an unknown location in North America and donated to the PMAE by the American Antiquarian Society in 1890.

The two objects of cultural patrimony are one lot of moccasins and one lot of beaded cradles collected by an unknown person at an unknown date from the “Plains” and donated to the PMAE by Mary I. Decker in 1969 through the Radcliffe College President Mary Bunting.

The 12 objects of cultural patrimony are one lot of pouches and bags, one lot of blanket strips, one lot of necklaces and pendants, one lot of moccasins, one lot of roaches, one lot of mashers, clubs, and mauls, one lot of leggings, one lot of belts, one lot of beaded cradles and cradle hoods, one lot of a shield and its fragments, one eagle bustle, and one lot of beaded bottles collected by William Radcliff Morris between 1878 and 1893 from unspecified locations within the United States. Morris's widow sold the cultural items to William H. Claflin, Jr., in 1930, and Claflin bequeathed the cultural items to the PMAE in 1985. Morris identified one necklace as previously owned by a woman identified as “Comes-Back-at-Night,” wife of Broken Arm. Morris identified one set of dentalium ear pendants as previously owned by a woman identified as Red Cloud's wife. Morris identified one club as belonging to Chief Rain in the Face and the eagle bustle as belonging to Chief Sitting Bull.

The 12 sacred objects/objects of cultural patrimony are described as follows:

The one sacred object/object of cultural patrimony is one lot of pipe and tobacco bags collected by an unknown person at an unknown date from an unknown location in Canada and donated to the PMAE by John Galt in 1916.

The one sacred object/object of cultural patrimony is one lot of umbilical amulets collected by Ernest T. Jackson between 1872 and 1902 from an unknown location in North America and donated to the PMAE by Jackson and Patrick T. Jackson in 1940.

The one sacred object/object of cultural patrimony is one lot of moccasins collected by Amelia Elizabeth White at an unknown date from the “Plains” and donated to the PMAE by William White Howells in 1961.

The two sacred objects/objects of cultural patrimony are one lot of pipe stems and one pictographic bison robe and its fragments which had been part of the Boston Museum's collection. The Boston Museum (which existed between 1841 and 1895) was co-owned by brothers David and Moses Kimball. It included collections from the former Peale Museum and the former New England Museum. The heirs of David Kimball (David P. Kimball, Augusta K. Horton, and Lemuel Cushing Kimball) donated the cultural items to the PMAE in 1899. The cultural items are associated historically with the expedition of Meriwether Lewis and William Clark. The pipes may have been acquired by Lewis and Clark in 1804, by Lt. George Christian Hutter in 1825, or by Charles Willson Peale in 1826; alternatively, the pipes may have been carried by the delegation that Lewis sent to visit Thomas Jefferson in Washington in 1805-1806 or by representatives of Tribes under the jurisdiction of Lewis and Clark in St Louis. The bison robe was once the symbol of the Lewis and Clark Expedition, though it may not have been collected by Lewis and Clark and might have actually been acquired for the Peale Museum by Hutter in 1825.

The six sacred objects/objects of cultural patrimony are one lot of pipes, one lot of eagle bone whistles, one lot of pouches, one eagle feather horned headdress, one lot of drums, and one lot of pipe tampers collected by William Radcliff Morris between 1878 and 1893 from unspecified locations within the United States. Morris's widow sold the cultural items to William H. Claflin, Jr., in 1930, and Claflin bequeathed them to the PMAE in 1985. Morris identified one pipe as previously owned by a man identified as “Man-Who-Pocks-The-Eagle.” Morris identified one eagle bone whistle as previously owned by a man identified as “Goes-To-War.” Morris identified the eagle feather horned headdress as belonging to Chief Crazy Horse, who sent it by his brother, Chief Red Cloud, to General George Crook as a token of his surrender, several months after the Battle of Greasy Grass (Little Bighorn).

The one sacred object/object of cultural patrimony is one lot of pipe bags collected by William R. Wright between 1950 and 1993 from an unknown location within the United States and donated to the PMAE by Wright in 1995.

Determinations

The PMAE has determined that:

• The two unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 57 sacred objects described in this notice are specific ceremonial objects needed by a traditional Native American religious leader for present-day adherents to practice traditional Native American religion, according to the Native American traditional knowledge of a lineal descendant, Indian Tribe, or Native Hawaiian organization.

• The 49 objects of cultural patrimony described in this notice have ongoing historical, traditional, or cultural importance central to the Native American group, including any constituent sub-group (such as a band, clan, lineage, ceremonial society, or other subdivision), according to the Native American traditional knowledge of an Indian Tribe or Native Hawaiian organization.

• The 12 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Assiniboine and Sioux Tribes of the Fort Peck Indian Reservation, Montana.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 12, 2025. If competing requests for repatriation are received, the PMAE must determine the most appropriate requestor prior to repatriation. Requests for joint repatriation of the cultural items are considered a single request and not competing requests. The PMAE is responsible for sending a copy of this notice to the Indian Tribes and Native Hawaiian organizations identified in this notice and to any other consulting parties.

Authority: Native American Graves Protection and Repatriation Act, 25 U.S.C. 3004 and the implementing regulations, 43 CFR 10.9.

Dated: April 1, 2025.
Melanie O'Brien,
Manager, National NAGPRA Program.

[FR Doc. 2025-06207 Filed 4-10-25; 8:45 am]

BILLING CODE 4312-52-P